DEPARTMENT OF DEFENSE

Office of the Secretary

Revision of a Currently Approved Collection; Comment Request

AGENCY: Office of the Assistant Secretary of Defense for Health Affairs, DoD.

ACTION: Notice.

In accordance with Section 3506 (c)(2)(A) of the Paperwork Reduction Act of 1995, the Office of the Assistant Secretary of Defense (Health Affairs) announces the revision of a currently approved collection, with revision and seeks public comment on the provisions thereof. Comments are invited on: (a) Whether the proposed revision of collection of information is necessary for the proper performance of the functions of the agency, including whether the information shall have practical utility; (b) the accuracy of the agency's estimate of the burden of the information collection; (c) ways to enhance the quality, utility, and clarity of the information to be collected; and (d) ways to minimize the burden of the information collection on respondents, including through the use of automated collection techniques or other forms of information technology.

DATES: Consideration will be given to all comments received December 17, 2001.

ADDRESSES: Written comments and recommendations on the information collection should be sent to Office of the Assistant Secretary of Defense (Health Affairs) TRICARE Management Activity, Skyline Five, Suite 810, 5111 Leesburg Pike, Falls Church, Virginia 22041-3206.

FOR FURTHER INFORMATION CONTACT: To request more information on this proposed information collection, please write to the above address or call Duaine Goodno, Office of the Assistant Secretary of Defense (Health Affairs), TRICARE Management Activity at (703) 681-0039.

Title; Associated Form; and OMB Number: TRICARE Prime Program; TRICARE Prime Enrollment Application, TRICARE Prime Disenrollment Request, and TRICARE Prime Change Request; OMB No. 0720-0008.

Needs and Uses: These collection instruments serve as application for the enrollment, disenrollment and Primary Care Manager Change for the Department of Defense's TRICARE Prime program established in accordance with Title 10 U.S.C. Section 1099 (which calls for a healthcare enrollment system). Monthly payment options for retiree enrollment fees for TRICARE Prime is established in accordance with Title 10 U.S.C. Section 1097a(c). The information collected on the TRICARE Prime Enrollment Application provides the necessary data to determine beneficiary eligibility and to identify the selection of a health care option. The TRICARE Prime Disenrollment Request serves to disenroll an enrollee from TRICARE Prime on a voluntary basis. The TRICARE Prime Change Request serves to change the designated Primary Care Manager (PCM) when the beneficiary is relocating or merely requests a local PCM change, in accordance with the National Defense Authorization Act for Fiscal Year 2001 (P.L. 106-398), Section 723(b)(E).

Affected Public: Individuals or household.

Annual Burden Hours: 41,260.

Number of Respondents: 253,200.

Responses Per Respondent: 1.

Average Burden Per Response: TRICARE Prime Enrollment Application: 15 minutes; TRICARE Disenrollment Request: 5 minutes; TRICARE Prime PCM Change Request: 8 minutes.

Frequency: On occcasion.

SUPPLEMENTARY INFORMATION: The Department of Defense established TRICARE Prime as an enrollment option to give CHAMPUS-eligible beneficiaries a DOD-sponsored military managed care program. In order to simplify the collection of information on enrollment applications for TRICARE Prime, the existing information collection is being modified to create three separate forms: Initial enrollment, changes to a PCM and disenrollment. This modification decreases the total amount of time to complete forms by respondents. In order to implement this program, it is necessary that certain beneficiaries electing to enroll/disenroll/change PCMs complete an enrollment application/disenrollment request/PCM change request. Completion of these forms is an essential element of the TRICARE program.

Dated: October 9, 2001.
Patricia L. Toppings,
Alternative OSD Federal Register, Liaison Officer, Department of Defense.

[FR Doc. 01-25924 Filed 10-15-01; 8:45 am]

BILLING CODE 5001-08-M